DEPARTMENT OF THE INTERIOR

National Park Service

National Register of Historic Places; Notification of Pending Nominations

Nominations for the following properties being considered for listing in the National Register were received by the National Park Service before September 8, 2001. Pursuant to section 60.13 of 36 CFR Part 60 written comments concerning the significance of these properties under the National Register criteria for evaluation may be forwarded to the National Register, National Park Service, 1849 C St., NW., NC400 Washington, DC 20240. Written comments should be submitted by November 9, 2001.

Beth Savage,
Acting Keeper of the National Register.

ALASKA

Nome Borough—Census Area

Teller Mission Orphanage, Jct. of Shelman Creek Rd. and Mission St., Brevig Mission, 01001117

ARKANSAS

Cleveland County

New Edinburg Commercial Historic District, AR 8, New Edinburg, 01001118

COLORADO

La Plata County

Durango High School, 201 E. 12th St., Durango, 01001119

Las Animas County

Trinchera Cave Archeological District, Address Restricted, Trinchera, 01001120

Logan County

Sterling Public Library, 210 S. 4th St., Sterling, 01001121

KANSAS

Douglas County

Bailey Hall, Jct. of Jayhawk Dr. and Sunflower Rd., Lawrence, 01001122

Goodrich, Eugene F., House, (Lawrence, Kansas MPS), 1711 Massachusetts St., Lawrence, 01001123

McCurdy, Witter S., House, (Lawrence, Kansas MPS), 909 W. 6th St., Lawrence, 01001124

Morris County

Little John Creek Reserve, E. \1/2\, Sec. 29, T 16 S, R 9 E, Council Grove, 01001125

Shawnee County

Curtis Junior High, 316 NW Grant St., Topeka, 01001126

MISSISSIPPI

Wilkinson County

Woodville Historic District (Boundary Increase III), Roughly bounded by Old Prentiss Hwy., US 61 and City Limits, Woodville, 01001127

MISSOURI

Green County

Walnut Street Historic District (Boundary Decrease), 1100 and 1000 blks. of E. Elm St., Springfield, 01001128

NORTH CAROLINA

Craven County

New Bern Battlefield Site, US 70 E., approx. 4.5 mi. SE. of New Bern, New Bern, 01001129

Forsyth County

Winston-Salem City Hall, 101 S. Main St., Winston-Salem, 01001130

Gaston County

Loray Mill Historic District, Roughly bounded by W. Franklin Blvd., S. Vance and S. Trenton Sts., and W. 6th Ave. B, Gastonia, 01001131

Granville County

Taylor, Archibald, Plantation House, 5632 Tabbs Creek Rd., Oxford, 01001132

Johnston County

Clayton Graded School and Clayton Grammar School—Municipal Auditorium, 101 and 111 2nd St., Clayton, 01001133

Martin County

Griffin, W.W., Farm, 1871 Wendell Griffin Rd., Williamston, 01001134

Hanover County

Delgrado School, 1930 Colwell Ave., Wilmington, 01001135

OREGON

Josephine County

Allen Gulch Mill, (Upper Illinois Valley, Oregon Mining Resources MPS) Approx. 1 mi. SE of Jct. of Waldo Rd. and Waldo Lookout Rd., Cave Junction, 01001148

Allen Gulch Townsite (Upper Illinois Valley, Oregon Mining Resources MPS) Approx. 1 mi. SE. of Jct. of Waldo Rd. and Waldo Lookout Rd., Cave Junction, 01001136

Cameron Mine, (Upper Illinois Valley, Oregon Mining Resources MPS) Approx. 2 mi. S. of Jct. of Waldo Rd. and Waldo Lookout Rd., Cave Junction, 01001144

Deep Gravel Mine, (Upper Illinois Valley Oregon Mining Resources MPS) Approx. 1 mi. N. of Jct. of Waldo Rd. and BLM Rd. 40-8-28, Cave Junction, 01001141

Esterly Pit. No. 2—Llano De Oro Mine, (Upper Illinois Valley, Oregon Mining Resources MPS) Approx. 1.5 mi. N. of Jct. of Waldo Rd. and BLM Rd. 40-8-28, Cave Junction, 01001145

Fry Gulch Mine, (Upper Illinois Valley, Oregon Mining Resources MPS) Approx. .75 mi. S. from Jct. of Waldo Rd. and BLM Rd. 40-8-28, Cave Junction, 01001143

High Gravel Mine, (Upper Illinois Valley, Oregon Mining Resources MPS) Approx. 1.3 mi. S. of Jct. of Waldo Rd. and Waldo Lookout Rd., Cave Junction, 01001142

Logan Cut, (Upper Illinois Valley, Oregon Mining Resources MPS) Historic Channel of Logan Cut, Cave Junction, 01001154

Logan Drain Ditches, (Upper Illinois Valley, Oregon Mining Resources MPS) Approx. 2 mi. N. of Jct. of Waldo Rd. and BLM Rd. 40-8-28, Cave Junction 01001155

Logan Wash Ditch, (Upper Illinois Valley, Oregon Mining Resources MPS) Historic Channel of Logan Wash Ditch, Cave Junction, 01001153

Middle Ditch, (Upper Illinois Valley, Oregon Mining Resources MPS) Historic Channel of Logan-Esterly Middle Ditch, Cave Junction, 01001150

Old Placer Mine, (Upper Illinois Valley, Oregon Mining Resources MPS) Approx. 65 mi. W. of Jct. of Rockydale Rd. and BLM Rd. 40-8-15, Cave Junction, 01001140

Osgood Ditch, (Upper Illinois Valley, Oregon Mining Resources MPS) Historic Channel of Osgood Ditch, Cave Junction, 01001151

Plataurica Mine, (Upper Illinois Valley, Oregon Mining Resources MPS) Approx. 75 mi. SE. of Jct. of Waldo Rd. and Waldo Lookout Rd., Cave Junction, 01001146

St. Patrick's Roman Catholic Cemetery, (Upper Illinois Valley, Oregon Mining Resources MPS) Approx. 1 mi. SE. of Jct. of Waldo Rd. and Waldo Lookout Rd., Cave Junction, 01001137

Upper Ditch, (Upper Illinois Valley, Oregon Mining Resources MPS) Historic Channel of Logan-Esterly Upper Ditch, Cave Junction, 01001149

Waldo Cemetery, (Upper Illinois Valley, Oregon Mining Resources MPS) Approx. 5 mi. SW. of Jct. of Waldo Rd. and BLM Rd. 40-8-28, Cave Junction, 01001138

Waldo Chinese Cemetery, (Upper Illinois Valley, Oregon Mining Resources MPS) Approx. 5 mi. SW. of Jct. of Waldo Rd. and BLM Rd. 40-8-28, Cave Junction, 01001139

Waldo Mine, (Upper Illinois Valley, Oregon Mining Resources MPS) SW. of Jct. of Waldo Rd. and BLM Rd. 40-8-28, Cave Junction, 01001147

Wimer Ditch, (Upper Illinois Valley, Oregon Mining Resources MPS) Historic Channel of Wimer Ditch, Cave Junction, 01001152

RHODE ISLAND

Kent County

Massie Wireless Station, 1300 Frenchtown Rd., East Greenwich, 01001157

Newport County

Fort Hamilton Historic District, (Lighthouses of Rhode Island TR) Rose Island, Newport, 01001158

Washington County

Hygeia House, (New Shoreham (Block Island), Rhode Island MPS) Beach Ave., New Shoreham, 01001156

SOUTH CAROLINA

Cherokee County

Magness-Humphries House, 101 Grassy Pond Rd., Gaffney, 01001159

Pickens County

Griffin-Christopher House, 208 Ann St., Pickens, 01001160

Stribling, J.C., Barn, 220 Issaqueena Tr., Clemson, 01001161

WASHINGTON

San Juan County

Tacoma Building, 1015-1021 A St., Tacoma, 01001162

A request for removal has been made for the following:

ARKANSAS

Crawford County

Mountainburg High School (Public Schools in the Ozarks MPS) AR 71, Mountainburg, 92001216

[FR Doc. 01-26890 Filed 10-24-01; 8:45 am]

BILLING CODE 4310-70-M